Memorandum of September 6, 2019—Providing an Order of Succession Within the Council on Environmental Quality

Correction

In Presidential document 2019-19930 beginning on page 48227 in the issue of Thursday, September 12, 2019, make the following correction:

On page 48227, in the document heading, the word “Secession” should read “Succession”.

[FR Doc. C1-2019-19930

Filed 9-13-19; 8:45 a.m.]

Billing Code 1301-00-D